DEPARTMENT OF TRANSPORTATION

Federal Aviation Administration

14 CFR Part 39

[Docket No. 99-NM-256-AD; Amendment 39-11587; AD 2000-04-05]

RIN 2120-AA64

Airworthiness Directives; Israel Aircraft Industries, Ltd., Model Astra SPX Series Airplanes; Correction

AGENCY: Federal Aviation Administration, DOT.

ACTION: Final rule; correction.

SUMMARY: This document adds a line of text that was inadvertently omitted from the applicability of airworthiness directive (AD) 2000-04-05 that applies to certain Israel Aircraft Industries, Ltd., Model Astra SPX series airplanes which was published on February 23, 2000 (65 FR 8848). That AD currently requires a one-time inspection to measure the countersink angle of the bolt holes in the lower scissors fitting of the horizontal stabilizer, and corrective actions, if necessary. This document corrects the applicability to include the serial numbers for Model Astra SPX series airplanes. This correction is necessary to ensure that the appropriate operators accomplish the requirements of the AD.

DATES: Effective March 29, 2000.

The incorporation by reference of certain publications listed in the regulations was approved previously by the Director of the Federal Register as of March 29, 2000 (65 FR 8848, February 23, 2000).

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: Airworthiness Directive (AD) 2000-04-05, amendment 39-11587, applicable to certain Israel Aircraft Industries, Ltd., Model Astra SPX series airplanes, was published in the Federal Register on February 23, 2000 (65 FR 8848). That AD requires a one-time inspection to measure the countersink angle of the bolt holes in the lower scissors fitting of the horizontal stabilizer, and corrective actions, if necessary.

As published, the applicability of AD 2000-04-05 inadvertently omitted “serial numbers 085 through 112 inclusive” for Israel Aircraft Industries, Ltd., Model Astra SPX series airplanes.

Since no other part of the regulatory information has been changed, the final rule is not being republished.

The effective date of this AD remains March 29, 2000.

§ 39.13 [Corrected]

1. On page 8848, in the third column, the applicability paragraph that precedes Note 1 of AD 2000-04-05 is corrected to read as follows:

* * * * *

Applicability: Model Astra SPX series airplanes, serial numbers 085 through 112 inclusive, certificated in any category.

* * * * *

Issued in Renton, Washington, on March 22, 2000.
Donald L. Riggin,
Acting Manager, Transport Airplane Directorate, Aircraft Certification Service.

[FR Doc. 00-7614 Filed 3-27-00; 8:45 am]

BILLING CODE 4910-13-U